DEPARTMENT OF ENERGY

Federal Energy Regulatory Commission

[Docket No. IC17-12-000]

Commission Information Collection Activities (FERC-523); Comment Request; Revision and Extension

AGENCY: Federal Energy Regulatory Commission, Department of Energy.

ACTION: Notice of revised information collection and request for comments.

SUMMARY: In compliance with the requirements of the Paperwork Reduction Act of 1995, the Federal Energy Regulatory Commission (Commission or FERC) is soliciting public comment on a revision to the information collection, FERC-523, (Application for Authorization for the Issuance of Securities or the Assumption of Liabilities) which will be submitted to the Office of Management and Budget (OMB) for a review of the information collection requirements.

DATES: Comments on the collection of information are due July 3, 2017.

ADDRESSES: You may submit comments identified by Docket No. IC17-12-000 by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-523, Application for Authorization for the Issuance of Securities or the Assumption of Liabilities.

OMB Control No.: 1902-0043.

Type of Request: Three-year approval of the FERC-523 information collection requirements with no changes to the current reporting requirements.

Abstract: The information collected by FERC-523 is required to implement the statutory provisions of section 204 of the Federal Power Act (FPA) (16 U.S.C. 824c). Under section 204 of the FPA no public utility or licensee shall issue any security, or assume any obligation or liability as guarantor, endorser, surety, or otherwise in respect of any security of another person, until the public utility applies for and receives Commission approval by order authorizing the issue or assumption of the liability. The Commission issues an order if it finds that such issue or assumption (a) is for lawful object, within the corporate purposes of the applicant and compatible with the public interest, which is necessary or appropriate for or consistent with the proper performance by the applicant as a public utility, and which will not impair its ability to perform that service, and (b) is reasonably necessary or appropriate for such purposes.

The Commission uses the information contained in filings to determine its acceptance and/or rejection of applications for authorization to either issue securities or to assume an obligation or liability by the public utilities and their licensees who submit these applications.

The specific application requirements and filing format are found at 18 CFR Part 34; and 18 CFR 131.43 and 131.50. This information is filed electronically.

Type of Respondents: Public utilities subject to the Federal Power Act.

Estimate of Annual Burden: ¹ The Commission estimates the reduction in the annual public reporting burden for the FERC-523, as follows:

¹ Burden is defined as the total time, effort, or financial resources expended by persons to generate, maintain, retain, or disclose or provide information to or for a Federal agency. For further explanation of what is included in the information collection burden, refer to 5 Code of Federal Regulations 1320.3.

FERC-523, Applications for Authorization for Issuance of Securities or Assumption of Liability
Information collection requirements | Number of respondents ² | Annual number of responses per respondent | Total number of responses | Average burden hours & cost per response ³ | Total annual burden hours & total annual cost
| (1) | (2) | (1) * (2) = (3) | (4) | (3) * (4) = (5)
FERC-523 | 145 | 1 | 145 | 70 $5,355 | 10,150 $776,475

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² The number of respondents is derived from the actual number of applications processed.

³ The Commission staff thinks that the average respondent for this collection is similarly situated to the Commission, in terms of salary plus benefits. Based upon FERC's 2017 annual average of $158,754 (for salary plus benefits), the average hourly cost is $76.50/hour.

Dated: April 26, 2017.
Kimberly D. Bose,
Secretary.

[FR Doc. 2017-08808 Filed 5-1-17; 8:45 am]

BILLING CODE 6717-01-P